DEPARTMENT OF LABOR

Employment and Training Administration

[TA-W-37,825]

Georgia Pacific Corporation, CNS/Softwood Lumber Division, Baileyville, Maine; Notice of Termination of Investigation

Pursuant to Section 221 of the Trade Act of 1974, an investigation was initiated on June 26, 2000, in response to a petition filed by a PACE International Union, Local #1-1867 representative on behalf of workers at Georgia Pacific Corporation, Baileyville, Maine. Workers are engaged in employment related to the production of lumber studs.

An active certification covering the petitioning group of workers remains in effect through January 19, 2001 (TA-W-35,257). Consequently, further investigation in this case would serve no purpose, and the investigation has been terminated.

Signed in Washington, DC, this 12th day of July, 2000.
Grant D. Beale,
Program Manager, Division of Trade Adjustment Assistance.

[FR Doc. 00-19408 Filed 7-31-00; 8:45 am]

BILLING CODE 4510-30-M